FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted February 1, 2011 thru February 28, 2011
ET date | Trans. No. | ET req. status | Party name
02/01/2011 | 20110449 | G | Baker Brothers Life Sciences, L.P.; Ardea Biosciences, Inc.; Baker Brothers Life Sciences, LP.
| 20110510 | G | Deerfield Capital Corp.; Charlesbank Equity Fund V, Limited Partnership; Deerfield Capital Corp.
02/02/2011 | 20110353 | G | Wizard Parent LLC; Novell, Inc.; Wizard Parent LLC.
02/03/2011 | 20110348 | G | Verigy Ltd.; LTX-Credence Corporation; Verigy Ltd.
| 20110479 | G | GEA Group Aktiengesellschaft; CFS Holdings B.V.; GEA Group Aktiengesellschaft.
| 20110481 | G | Thomas H. Lee Equity Fund VI, L.P.; John J. Campbell and Ann L. Campbell; Thomas H. Lee Equity Fund VI, L.P.
| 20110502 | G | L'Oreal S.A.; Q-Med AB; L'Oreal S.A.
| 20110506 | G | ASSA ABLOY AB; Cardo AB; ASSA ABLOY AB.
02/04/2011 | 20110474 | G | SteelRiver Infrastructure Fund North American LP; TWP Inc.; SteelRiver Infrastructure Fund North American L.P.
| 20110509 | G | Pfingsten Partners Fund IV, L.P.; MCG Capital Corporation; Pfingsten Partners Fund IV, L.P.
| 20110512 | G | MasTec, Inc.; Martin J. Maslonka; MasTec, Inc.
| 20110516 | G | Thomas H. Lee Equity Fund VI, L.P.; UnitedHealth Group Incorporated; Thomas H. Lee Equity Fund VI, L.P.
| 20110518 | G | Novartis AG; Genoptix, Inc.; Novartis AG.
| 20110530 | G | William Clay Ford, Jr.; Ford Motor Company; William Clay Ford, Jr.
| 20110535 | G | Rock-Tenn Company; Smurfit-Stone Container Corporation; Rock-Tenn Company.
02/07/2011 | 20110383 | G | Paychex, Inc.; SurePayroll, Inc.; Paychex, Inc.
| 20110494 | G | Montrica Global Opportunities Fund; Pride International, Inc.; Montrica Global Opportunities Fund.
| 20110495 | Y | TPG-Axon Partners (Offshore), Ltd.; Pride International, Inc.; TPG-Axon Partners (Offshore), Ltd.
| 20110496 | G | TPG-Axon Partners, L.P.; Pride International, Inc.; TPG-Axon Partners, L.P.
| 20110526 | G | Boston Scientific Corporation; Atritech, Inc.; Boston Scientific Corporation.
02/08/2011 | 20110513 | G | General Electric Company; Gores Capital Partners II, L.P.; General Electric Company.
02/09/2011 | 20110477 | G | Sanford; North Country Health Services, Inc.; Sanford.
| 20110519 | G | Intermec, Inc.; Vocollect, Inc.; Intermec, Inc.
| 20110532 | G | SES Holdings, LLC; Water Providers, Ltd. d/b/a Sweet H20 Transfer Services; SES Holdings, LLC.
02/11/2011 | 20110522 | G | AutoNation, Inc.; Wilfred and Ann J. Templeton AutoNation, Inc.
| 20110534 | G | Tencent Holdings Limited; Riot Games, Inc.; Tencent Holdings Limited.
| 20110536 | G | Standard Microsystems Corporation; Conexant Systems Inc.; Standard Microsystems Corporation.
| 20110537 | G | Terrence M. Pegula; B. Thomas Golisano; Terrence M. Pegula.
| 20110540 | G | Open Text Corporation; Metastorm Inc.; Open Text Corporation.
02/15/2011 | 20110539 | G | The Toronto-Dominion Bank; CG Investor, LLC; The Toronto-Dominion Bank.
02/17/2011 | 20110520 | G | Fidelity National Financial, Inc.; Remy International, Inc.; Fidelity National Financial, Inc.
| 20110549 | G | Cargotec Oyj; Zebra Technologies Corporation Cargotec Oyj.
02/18/2011 | 20110552 | G | Verizon Communications Inc.; Iowa RSA 10 General Partnership; Verizon Communications Inc.
| 20110559 | G | Warburg Pincus Private Equity X, L.P.; AmRest Holdings SE; Warburg Pincus Private Equity X, L.P.
| 20110560 | G | Valeant Pharmaceuticals International, Inc.; GlaxoSmithKline plc; Valeant Pharmaceuticals International, Inc.
02/22/2011 | 20110553 | G | Danaher Corporation; Axed III K/S 2; Danaher Corporation.
| 20110556 | G | Visa Inc.; PlaySpan Inc.; Visa Inc.
02/23/2011 | 20110541 | G | Cerberus Institutional Partners, L.P.; GeoEye, Inc.; Cerberus Institutional Partners, L.P.
| 20110547 | G | John J. Shalam; Fred S. Klipsch; John J. Shalam.
| 20110550 | G | William H. Gates III; Canadian National Railway Company; William H. Gates III.
| 20110563 | G | Liberty Mutual Holding Company Inc.; Sunshine Silver Mines Corporation; Liberty Mutual Holding Company Inc.
| 20110564 | G | Kumar Mangalam Birla; J.P. Morgan Chase & Co.; Kumar Mangalam Birla.
02/24/2011 | 20110521 | G | Qualcomm Incorporated; Atheros Communications, Inc.; Qualcomm Incorporated.
| 20110554 | G | Wind Point Partners VII-A, L.P.; Cummins Inc.; Wind Point Partners VII-A, L.P.
02/28/2011 | 20110529 | G | CVS Caremark Corporation Universal American Corp.; CVS Caremark Corporation.
| 20110565 | G | MidOcean Partners III, L.P.; Pre-Paid Legal Services, Inc.; MidOcean Partners III, L.P.
| 20110576 | G | AOL Inc.; TheHuffingtonPost.com; AOL Inc.
| 20110577 | G | Louis Le Duff; Sun Capital Partners II, L.P. Louis Le Duff.
| 20110584 | G | Barry and Stephanie Zekelman; Carlyle Partners IV, LP.; Barry and Stephanie Zekelman.
| 20110586 | G | Apollo Investment Fund VI, L.P., c/o Apollo Management VI LP; Sprouts Farmers Markets, LLC; Apollo Investment Fund VI, L.P., c/o Apollo Management VI LP.

For Further Information Contact:

Sandra M. Peay, Contact Representative, or Renee Chapman, Contact Representative, Federal Trade Commission, Premerger Notification Office, Bureau of Competition, Room H-303, Washington, DC 20580, (202) 326-3100.

By Direction of the Commission.
Donald S. Clark,
Secretary.

[FR Doc. 2011-6180 Filed 3-17-11; 8:45 am]

BILLING CODE 6750-01-M